ENVIRONMENTAL PROTECTION AGENCY

40 CFR Part 82

[EPA-HQ-OAR-2003-0118; FRL-8223-9]

RIN 2060-AG12

Protection of Stratospheric Ozone: Notice 21 for Significant New Alternatives Policy Program

AGENCY: Environmental Protection Agency (EPA).

ACTION: Notice of Acceptability.

SUMMARY: This Notice of Acceptability expands the list of acceptable substitutes for ozone-depleting substances (ODS) under the U.S. Environmental Protection Agency's (EPA) Significant New Alternatives Policy (SNAP) program. The substitutes are for use in the following sectors: refrigeration and air conditioning, foam blowing, cleaning solvents, aerosols, and sterilants. The determinations concern new substitutes.

DATES: This notice of acceptability is effective on September 28, 2006.

ADDRESSES: EPA has established a docket for this action under Docket ID No. EPA-HQ-OAR-2003-0118 (continuation of Air Docket A-91-42). All electronic documents in the docket are listed in the index at http://www.regulations.gov. Although listed in the index, some information is not publicly available, i.e., Confidential Business Information (CBI) or other information whose disclosure is restricted by statute. Publicly available docket materials are available either electronically at www.regulations.gov or in hard copy at the EPA Air Docket (No. A-91-42), EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Margaret Sheppard by telephone at (202) 343-9163, by facsimile at (202) 343-2338, by e-mail at sheppard.margaret@epa.gov, or by mail at U.S. Environmental Protection Agency, Mail Code 6205J, 1200 Pennsylvania Avenue, NW., Washington, DC 20460. Overnight or courier deliveries should be sent to the office location at 1310 L Street, NW., 8th floor, Washington, DC, 20005.

For more information on the Agency's process for administering the SNAP program or criteria for evaluation of substitutes, refer to the original SNAP rulemaking published in the Federal Register on March 18, 1994 (59 FR 13044). Notices and rulemakings under the SNAP program, as well as other EPA publications on protection of stratospheric ozone, are available at EPA's Ozone Depletion World Wide Web site at http://www.epa.gov/ozone/ including the SNAP portion at http://www.epa.gov/ozone/snap/.

SUPPLEMENTARY INFORMATION:

I. Listing of New Acceptable Substitutes

A. Refrigeration and Air Conditioning

B. Foam Blowing

C. Cleaning Solvents

D. Aerosols

E. Sterilants

II. Section 612 Program

A. Statutory Requirements

B. Regulatory History

Appendix A—Summary of Acceptable Decisions

I. Listing of New Acceptable Substitutes

This section presents EPA's most recent acceptable listing decisions for substitutes in the following industrial sectors: Refrigeration and air conditioning, foam blowing, cleaning solvents, aerosols and sterilants. For copies of the full list of ODS substitutes in all industrial sectors, visit EPA's Ozone Depletion Web site at http://www.epa.gov/ozone/snap/lists/index.html.

The Agency has determined that the Clean Air Act does not authorize EPA to regulate for global climate change purposes (Memo to Acting Administrator, Marianne L. Horinko from Robert E. Fabricant. 2003. Subject: EPA's Authority to Impose Mandatory Controls to Address Global Climate Change under the Clean Air Act). The Agency has not yet concluded how this determination would affect its consideration of the global warming potential of substitutes under the SNAP program. Regardless, for the substitutes considered here, the global warming potential of the alternatives was not a determinative factor in EPA's acceptable subject to use conditions determination.

The sections below discuss each substitute listing in detail. Appendix A contains a table summarizing today's listing decisions for new substitutes. The statements in the “Further Information” column in the table provide additional information, but are not legally binding under section 612 of the Clean Air Act. In addition, the “further information” may not be a comprehensive list of other legal obligations you may need to meet when using the substitute. Although you are not required to follow recommendations in the “further information” column of the table to use a substitute, EPA strongly encourages you to apply the information when using these substitutes. In many instances, the information simply refers to standard operating practices in existing industry and/or building-code standards. Thus, many of these statements, if adopted, would not require significant changes to existing operating practices.

You can find submissions to EPA for the use of the substitutes listed in this document and other materials supporting the decisions in this action in docket EPA-HQ-OAR-2003-0118 at http://www.regulations.gov.

A. Refrigeration and Air Conditioning

1. R-421A

EPA's decision:

R-421A [R-125/134a (58.0/42.0)] is acceptable for use in new and retrofit equipment as a substitute for hydrochlorofluorocarbon (HCFC)-22 in:

• Chillers (centrifugal, screw, reciprocating);

• Industrial process refrigeration;

• Industrial process air conditioning;

• Retail food refrigeration;

• Cold storage warehouses;

• Refrigerated transport;

• Commercial ice machines;

• Ice skating rinks;

• Household refrigerators and freezers;

• Vending machines;

• Water coolers;

• Residential dehumidifiers; and

• Household and light commercial air conditioning and heat pumps.

R-421A is a blend of 58% by weight hydrofluorocarbon (HFC)-125 (pentafluoroethane, CAS ID #354-33-6), and 42% by weight HFC-134a (1,1,1,2-teterafluoroethane, CAS ID #811-97-2). A common trade name for this refrigerant is Choice R421A. You may find the submission under Docket item EPA-HQ-OAR-2003-0118-0142 at www.regulations.gov.

Environmental information: The ozone depletion potential (ODP) of R-421A is zero. The contribution of this blend to greenhouse gas emissions will be minimized through the implementation of the venting prohibition under section 608(c)(2) of the Clean Air Act (see 40 CFR, part 82, subpart F). This section and EPA's implementing regulations prohibit venting or release of substitutes for class I or class II ODSs used in refrigeration and air conditioning and require proper handling, such as recycling or recovery, and disposal of these substances.

HFC-125 and HFC-134a are excluded from the definition of volatile organic compound (VOC) under Clean Air Act regulations (see 40 CFR 51.100(s)) addressing the development of State implementation plans (SIPs) to attain and maintain the national ambient air quality standards.

Flammability information: Neither component of this blend is flammable.

Toxicity and exposure data: HFC-125 and HFC-134a have 8 hour/day, 40 hour/week workplace environmental exposure limits (WEELs) of 1000 ppm established by the American Industrial Hygiene Association (AIHA). EPA recommends that users follow all requirements and recommendations specified in the Material Safety Data Sheet (MSDS) for the blend and the individual components and other safety precautions common in the refrigeration and air conditioning industry. EPA also recommends that users of R-421A adhere to the AIHA's WEELs.

Comparison to other refrigerants: R-421A is not an ozone depleter in contrast to HCFC-22 which it replaces. We find that R-421A is acceptable because it does not pose a greater overall risk to public health and the environment in the end uses listed above.

2. R-421B

EPA's decision:

R-421B [R-125/134a (85.0/15.0)] is acceptable for use in new and retrofit equipment as a substitute for HCFC-22, R-502, and chlorofluorocarbon (CFC)-12 in:

• Industrial process refrigeration;

• Retail food refrigeration;

• Cold storage warehouses;

• Refrigerated transport;

• Commercial ice machines;

• Ice skating rinks;

• Household refrigerators and freezers.

R-421B is a blend of 85.0% by weight HFC-125 (pentafluoroethane, CAS ID #354-33-6) and 15.0% by weight HFC-134a (1,1,1,2-tetrafluoroethane, CAS ID #811-97-2). A common trade name for this refrigerant is Choice R421B. You may find the submission under Docket item EPA-HQ-OAR-2003-0118-0143 at www.regulations.gov.

Environmental information: The ODP of R-421B is zero. For environmental information on the components of this blend see the section on environmental information above for R-421A.

Flammability information: Neither component of this blend is flammable.

Toxicity and exposure data: See the section above on toxicity and exposure data above for R-421A.

Comparison to other refrigerants: R-421B is not an ozone depleter; thus, it poses a lower risk for ozone depletion than the ODSs it replaces. Flammability and toxicity risks are low, as discussed above. We find that R-421B is acceptable because it does not pose a greater overall risk to public health and the environment in the end uses listed above.

3. R-422D

EPA's decision:

R-422D [R-125/134a/600a (65.1/31.5/3.4)] is acceptable for use in new and retrofit equipment as a substitute for HCFC-22 in:

• Chillers (centrifugal, screw, reciprocating);

• Industrial process refrigeration;

• Industrial process air conditioning;

• Retail food refrigeration;

• Cold storage warehouses;

• Refrigerated transport;

• Commercial ice machines;

• Ice skating rinks;

• Household refrigerators and freezers;

• Vending machines;

• Water coolers;

• Residential dehumidifiers;

• Non-mechanical heat transfer;

• Household and light commercial air conditioning and heat pumps; and

• Motor vehicle air conditioning (buses and passenger trains only).

R-422D is a blend of 65.1% by weight HFC-125 (pentafluoroethane, CAS ID #354-33-6), 31.5% by weight HFC-134a (1,1,1,2-tetrafluoroethane, CAS ID #811-97-2), and 3.4% by weight R-600a (isobutane, 2-methyl propane, CAS ID #75-28-5). A common trade name for this refrigerant is ISCEON MO29. You may find the submission under Docket item EPA-HQ-OAR-2003-0118-0121 at www.regulations.gov.

Environmental information: The ODP of R-422D is zero. For environmental information on HFC-125 and HFC-134a, see the section on environmental information above for R-421A.

The contribution of this blend to greenhouse gas emissions will be minimized through the implementation of the venting prohibition under section 608(c)(2) of the Clean Air Act (see 40 CFR, part 82, subpart F). This section and EPA's implementing regulations prohibit venting or release of substitutes for class I or class II ODSs used in refrigeration and air conditioning and require proper handling, such as recycling or recovery, and disposal of these substances.

Isobutane is a VOC under Clean Air Act regulations concerning the development of SIPs to attain and maintain the national ambient air quality standards. 40 CFR 51.100(s).

Flammability information: While one component of the blend, isobutane, is flammable, the blend as formulated and under worst-case fractionated formulation scenarios, is not flammable.

Toxicity and exposure data: For information on the workplace exposure limits for HFC-125 and HFC-134a, see the section on toxicity and exposure data above for R-421A. Isobutane has an 8 hour/day, 40 hour/week threshold limit value (TLV) established by the American Conference of Governmental Industrial Hygienists (ACGIH) of 1000 ppm. EPA recommends that users follow all requirements and recommendations specified in the MSDS for the blend and the individual components and other safety precautions common in the refrigeration and air conditioning industry. EPA also recommends that users of R-422D adhere to the AIHA's WEELs and the ACGIH's TLV.

Comparison to other refrigerants: R-422D is not an ozone depleter in contrast to HCFC-22 which it replaces. Flammability and toxicity risks are low, as discussed above. Thus, we find that R-422D is acceptable because it does not pose a greater overall risk to public health and the environment in the end uses listed above.

4. Formulation of RS-24 Changed

Refrigerant Solutions Ltd. (formerly Refrigerant Products Ltd.) has notified EPA that it is changing the composition of RS-24. On December 20, 2002 (67 FR 77927), EPA found the original formulation of RS-24 acceptable for a variety of end-uses. The composition of the old formulation was claimed as confidential business information (CBI). We will identify the old composition as “RS-24 (2002 composition)” and will continue to find it acceptable. EPA's decision on the new formulation is discussed below in the decision for R-426A.

5. R-426A

EPA's decision:

R-426A [R-125/134a/600/601a (5.1/93.0/1.3/0.6)] is acceptable for use in new and retrofit equipment as a substitute for CFC-12 in:

• Industrial process refrigeration;

• Industrial process air conditioning;

• Retail food refrigeration;

• Cold storage warehouses;

• Refrigerated transport;

• Commercial ice machines;

• Ice skating rinks;

• Vending machines;

• Water coolers;

• Household refrigerators and freezers; and

• Residential dehumidifiers.

R-426A [R-125/134a/600/601a (5.1/93.0/1.3/0.6)] is acceptable, subject to use conditions, for use in new and retrofit equipment as a substitute for CFC-12 in the following end use:

• Motor vehicle air conditioning.

Conditions for use in motor vehicle air conditioning systems. Regulations regarding recycling and prohibiting venting issued under section 609 of the Clean Air Act apply to this blend (subpart B of 40 CFR part 82).

On October 16, 1996, (61 FR 54029), EPA promulgated a final rule that established certain conditions on the use of any refrigerant used as a substitute for CFC-12 in motor vehicle air conditioning systems (Appendix D of subpart G of 40 CFR part 82). That rule provided that EPA would list new motor vehicle air conditioning system refrigerants in future notices of acceptability and that these conditions would apply to any such refrigerant found acceptable. Therefore, the use of R-426A as a CFC-12 substitute in motor vehicle air conditioning systems must follow the standard conditions:

• The use of unique fittings designed by the refrigerant manufacturer;

• The application of a detailed label;

• The removal of the original refrigerant prior to charging with R-426A; and

• The installation of a high-pressure compressor cutoff switch on systems equipped with pressure relief devices.

The October 16, 1996 rule gives full details on these use conditions.

You must use the following fittings to use R-426A in motor vehicle air conditioning systems:

Fitting type | Diameter (inches) | Thread pitch (threads/inch) | Thread direction
Low-side service port |  | Quick-connect
High-side service port |  | Quick-connect
Large containers (>20 lb.) |  | Quick-connect
Small cans |  | Quick-connect

The quick-connect fittings have been reviewed and found to be sufficiently different from HFC-134a and FRIGC FR-12 quick-connect fittings to be considered unique. The labels will have a gold background and black text. These are the same quick-connect fittings and same label as previously approved for RS-24 (2002 composition); however, the manufacturer of R-426A has stated that RS-24 (2002 composition) has not been and will not be sold for use in motor vehicle air conditioners.

R-426A is a blend of 5.1% by weight HFC-125 (pentafluoroethane, CAS ID #354-33-6), 93.0% by weight HFC-134a (1,1,1,2-tetrafluoroethane, CAS ID #811-97-2), 1.3% by weight R-600 (n-butane, CAS ID #106-97-8), and 0.6% by weight R-601a (isopentane, 2-methylbutane, CAS ID #78-78-4). A common trade name for this refrigerant is RS-24. This is a new formulation for RS-24, different from the one that EPA previously found acceptable in several refrigerant end uses (December 20, 2002; 67 FR 77927). You may find additional information under Docket item EPA-HQ-OAR-2003-0118-0148 at www.regulations.gov.

Environmental information: The ODP of R-426A is zero. For environmental information on HFC-125 and HFC-134a see the section on environmental information above for R-421A.

The contribution of this blend to greenhouse gas emissions will be minimized through the implementation of the venting prohibition under section 608(c)(2) of the Clean Air Act (see 40 CFR, part 82, subpart F). This section and EPA's implementing regulations prohibit venting or release of substitutes for class I or class II ODSs used in refrigeration and air conditioning and require proper handling, such as recycling or recovery, and disposal of these substances.

Isopentane and n-butane are VOCs under Clean Air Act regulations concerning the development of SIPs to attain and maintain the national ambient air quality standards. 40 CFR 51.100(s).

Flammability information: While two of the blend components, n-butane and isopentane, are flammable, the blend as formulated, and under worst-case fractionated formulation scenarios, is not flammable.

Toxicity and exposure data: HFC-125 and HFC-134a have 8 hour/day, 40 hour/week WEELs of 1000 ppm established by the AIHA. The other components, n-butane and isopentane, have 8 hour/day, 40 hour/week threshold limit values (TLVs) established by the American Conference of Governmental Industrial Hygienists (ACGIH) of 800 ppm and 600 ppm, respectively. EPA recommends that users follow all requirements and recommendations specified in the MSDS for the blend and the individual components and other safety precautions common in the refrigeration and air conditioning industry. EPA also recommends that users of R-426A adhere to the AIHA's WEELs and the ACGIH's TLV.

Comparison to other refrigerants: R-426A is not an ozone depleter in contrast to CFC-12 which it replaces. Flammability and toxicity risks are low, as discussed above. Thus, we find that R-426A is acceptable because it does not pose a greater overall risk to public health and the environment in the end uses and applications listed above.

6. Formulation of RS-44 Changed

Refrigerant Solutions Ltd. (formerly Refrigerant Products Ltd.) has notified EPA that it is changing the composition of RS-44. On August 21, 2003 (68 FR 50533), EPA found the original formulation of RS-44 acceptable for a variety of end-uses. The composition of the old formulation was claimed as confidential business information (CBI). We will continue to identify the blend as “RS-44 (2003 composition)” and will continue to find it acceptable. EPA's decision on the new formulation is discussed below in the decision for R-424A.

7. R-424A

EPA's decision:

R-424A [R-125/134a/600a/600/601a] (50.5/47.0/0.9/1.0/0.6)] is acceptable for use in new and retrofit equipment as a substitute for HCFC-22 in:

• Chillers (centrifugal, screw, reciprocating);

• Industrial process refrigeration;

• Industrial process air conditioning;

• Retail food refrigeration;

• Cold storage warehouses;

• Refrigerated transport;

• Commercial ice machines;

• Ice skating rinks;

• Household refrigerators and freezers;

• Residential dehumidifiers; and

• Household and light commercial air conditioning and heat pumps.

R-424A is a blend of 50.5% by weight HFC-125 (pentafluoroethane, CAS ID # 354-33-6), 47.0% by weight HFC-134a (1,1,1,2-tetrafluoroethane, CAS ID #811-97-2), 0.9% by weight R-600a (isobutane, 2-methyl propane, CAS ID #75-28-5), 1.0% by weight R-600 (n-butane, CAS ID #106-97-8), and 0.6% by weight R-601a (isopentane, 2-methylbutane, CAS ID #78-78-4). A common trade name for this refrigerant is RS-44. This is a new formulation for RS-44, different from the one that EPA previously found acceptable in several refrigerant end uses (August 21, 2003; 68 FR 50533). You may find additional information under Docket item EPA-HQ-OAR-2003-0118-0131 at www.regulations.gov.

Environmental information: The ODP of R-424A is zero. For environmental information on HFC-125 and HFC-134a, see the section on environmental information above for R-421A. For environmental information on R-600 and R-601a, see the section on environmental information above for R-426A. For environmental information on R-600a, see the section on environmental information above for R-422D.

The contribution of this blend to greenhouse gas emissions will be minimized through the implementation of the venting prohibition under section 608(c)(2) of the Clean Air Act (see 40 CFR, part 82, subpart F). This section and EPA's implementing regulations prohibit venting or release of substitutes for class I or class II ODSs used in refrigeration and air conditioning and require proper handling, such as recycling or recovery, and disposal of these substances.

Isobutane, n-butane, and isopentane are VOCs under Clean Air Act regulations concerning the development of SIPs to attain and maintain the national ambient air quality standards. 40 CFR 51.100(s).

Flammability information: While three components of the blend are flammable, the blend as formulated, and under worst-case fractionated formulation scenarios, is not flammable.

Toxicity and exposure data: For information on the workplace exposure limits for the components of this blend see the toxicity and exposure data sections above for R-421A, R-422D, and R-426A. EPA recommends that users follow all requirements and recommendations specified in the MSDS for the blend and the individual components and other safety precautions common in the refrigeration and air conditioning industry. EPA also recommends that users of R-424A adhere to the AIHA's WEELs and the ACGIH's TLV.

Comparison to other refrigerants: R-424A is not an ozone depleter in contrast to HCFC-22 which it replaces. Flammability and toxicity risks are low, as discussed above. Thus, we find that R-424A is acceptable because it does not pose a greater overall risk to public health and the environment in the end uses listed above.

8. R-407D

EPA's decision:

R-407D [R-32/125/134a (15.0/15.0/70.0)] is acceptable for use in new and retrofit equipment as a substitute for CFC-12 in:

• Refrigerated transport.

R-407D is a blend of 15.0% by weight HFC-32 (difluoromethane, CAS ID #75-10-5), 15.0% by weight HFC-125 (pentafluoroethane, CAS ID # 354-33-6), and 70.0% by weight HFC-134a (1,1,1,2-tetrafluoroethane, CAS ID #811-97-2).

Environmental information: The ODP of R-407D is zero. For environmental information on HFC-125 and HFC-134a, see the section on environmental information above for R-421A.

The contribution of this blend to greenhouse gas emissions will be minimized through the implementation of the venting prohibition under section 608(c)(2) of the Clean Air Act (see 40 CFR, part 82, subpart F). This section and EPA's implementing regulations prohibit venting or release of substitutes for class I or class II ODSs used in refrigeration and air conditioning and require proper handling, such as recycling or recovery, and disposal of these substances. HFC-32 is excluded from the definition of volatile organic compound (VOC) under Clean Air Act regulations (see 40 CFR 51.100(s)) addressing the development of State implementation plans (SIPs) to attain and maintain the national ambient air quality standards.

Flammability information: While one component of the blend, HFC-32, is flammable, the blend as formulated and under worst case fractionated formulation scenarios is not flammable.

Toxicity and exposure data: For information on the workplace exposure limits for HFC-125 and HFC-134a, see the section on toxicity and exposure data above for R-421A. HFC-32 has an 8 hour/day, 40 hour/week workplace environmental exposure limits (WEELs) of 1000 ppm established by the American Industrial Hygiene Association (AIHA). EPA recommends that users follow all requirements and recommendations specified in the Material Safety Data Sheet (MSDS) for the blend and the individual components and other safety precautions common in the refrigeration and air conditioning industry. EPA also recommends that users of R-407D adhere to the AIHA's WEELs.

Comparison to other refrigerants: R-407D is not an ozone depleter in contrast to CFC-12 which it replaces. Flammability and toxicity risks are low, as discussed above. Thus, we find that R-407D is acceptable because it does not pose a greater overall risk to public health and the environment in the end uses listed above.

B. Foam Blowing

1. Ecomate™

EPA's decision:

Ecomate™ is acceptable as a substitute for CFCs and HCFCs in the following end uses:

• Polystyrene, Extruded Boardstock & Billet;

• Phenolic Insulation Board & Bunstock;

• Flexible Polyurethane;

• Polyurethane, Extruded Sheet; and

• Polyolefin.

EPA previously found Ecomate acceptable for a number of foam blowing end uses in Notice 18, August 21, 2003 (68 FR 50533) and Notice 19, October 1, 2004 (69 FR 58903).

The submitter, Foam Supplies Inc., claims that the composition of Ecomate™ is confidential business information (see docket A-91-42, item VI-D-296).

Environmental information: Ecomate™ has no ODP. Users should be aware that Ecomate™ is not excluded from the definition of volatile organic compound (VOC) under Clean Air Act regulations addressing the development of State implementation plans (SIPs) to attain and maintain the national ambient air quality standards. 40 CFR 51.100(s). For more information, refer to the manufacturer of Ecomate™, EPA regulations, and your state or local air quality agency. Also, because Ecomate™ is considered hazardous, spills and disposal should be handled in accordance with requirements of the Resource Conservation and Recovery Act (RCRA).

Flammability information: Ecomate™ is flammable and should be handled with proper precautions. Use of Ecomate™ will require safe handling and shipping as prescribed by the Occupational Safety and Health Administration (OSHA) and the Department of Transportation (for example, using personal safety equipment and following requirements for shipping hazardous materials at 49 CFR parts 170 through 173). However, when blended with fire retardant, the flammability of Ecomate™ can be reduced to make a formulation that is either combustible or non-flammable (refer to the manufacturer of Ecomate™ for more information).

Toxicity and exposure data: Ecomate™ should be handled with proper precautions. EPA anticipates that Ecomate™ will be used consistent with the recommendations specified in the manufacturers' Material Safety Data Sheets (MSDSs) (e.g., use goggles and neoprene gloves when handling; handle in a fume hood or with adequate ventilation; if the workplace exposure limit is exceeded, use a NIOSH/MSHA approved air supplied respirator in the absence of proper environmental control). OSHA established a permissible exposure limit for the main component of Ecomate™ of 100 ppm for a time-weighted average over an eight-hour work shift. The ACGIH recommends a TLV of 100 ppm on an eight-hour time-weighted average and a short-term exposure limit of 150 ppm for a 15-minute time-weighted average for the main component of Ecomate™.

Comparison to other foam blowing agents: Ecomate™ is not an ozone depleter in contrast to the CFCs and HCFCs it replaces. Although Ecomate™ is flammable, we find that the manufacturer's recommended precautions for safety are sufficient so that the risks will not be significantly higher than for other available or potentially available substitutes in this end use. Meeting Federal exposure requirements allows Ecomate™ to be used with no greater risk of toxicity than for other available or potentially available substitutes in this end use. Thus, we find that Ecomate™ is acceptable because there are no other substitutes that are currently or potentially available that provide a substantially lower risk to public health and the environment in the end uses listed above. You may find additional information under Docket item EPA-HQ-OAR-2003-0118-0063 at www.regulations.gov.

C. Cleaning Solvents

1. Mini-Max Cleaner®

EPA's decision:

The Mini-Max Cleaner® is acceptable as a substitute for CFC-113, methyl chloroform, and HCFCs in the following end-uses:

• Metal cleaning;

• Electronics cleaning; and

• Precision cleaning.

Mini-Max Cleaner® is a cleaning device that creates super-heated, high pressure steam vapor. A relatively small amount of water is used, thus minimizing the amount of waste water that is produced. You may find the submission under Docket item EPA-HQ-OAR-2003-0118-0120 and -0124 at www.regulations.gov.

Environmental information: Mini-Max Cleaner® does not create emissions and its ODP is zero. The relatively small amount of water used minimizes indirect impacts on the atmosphere and on water.

Flammability information: The device is not flammable. There is a potential explosion hazard when the Mini-Max® Cleaner is used in the presence of VOCs or where liquids with a flash point are added to the water. EPA recommends that users follow all requirements and recommendations specified in the user safety manual to minimize any risks.

Toxicity and exposure data: The Mini-Max Cleaner® introduces no chemicals of concern. The resulting waste should be handled with safety precautions common in the solvent cleaning industry because the removed soils and chemicals may be toxic.

Comparison to other cleaning solvents: The Mini-Max Cleaner® is not an ozone depleter. Flammability and toxicity risks are negligible, as discussed above. Thus, we find that the Mini-Max Cleaner® is acceptable because it does not pose a greater risk to public health and the environment in the end uses listed. For more information refer to the manufacturer of the Mini-Max Cleaner®.

D. Aerosols

1. Mini-Max Cleaner®

EPA's decision:

The Mini-Max Cleaner® is acceptable as a substitute for CFC-113, methyl chloroform, and HCFCs in aerosol solvents.

Environmental information: For further information about the Mini-Max Cleaner®, see above in section B.1 on solvent cleaning.

Flammability information: For further information about the Mini-Max Cleaner®, see above in section B.1 on solvent cleaning.

Toxicity and exposure data: For further information about the Mini-Max Cleaner®, see above in section B.1 on solvent cleaning.

Comparison to other aerosol solvents: The Mini-Max Cleaner® is not an ozone depleter. Flammability and toxicity risks are negligible, as discussed above. Thus, we find that the Mini-Max Cleaner® is acceptable because it does not pose a greater risk to public health and the environment in the end use listed.

E. Sterilants

1. Mini-Max Cleaner®

EPA's decision:

The Mini-Max Cleaner® is acceptable as a substitute for CFC-12, HCFC-22, HCFC-124 and blends thereof in the sterilization sector.

EPA previously found steam acceptable as a sterilant under 59 FR13044, March 18, 1994. You may find the submission under Docket items EPA-HQ-OAR-2003-0118-0120 and -0124 at www.regulations.gov.

Environmental information: For further information about the Mini-Max Cleaner®, see above in section B.1 on solvent cleaning.

Flammability information: For further information about the Mini-Max Cleaner®, see above in section B.1 on solvent cleaning.

Toxicity and exposure: EPA expects users to follow all recommendations specified in the user's manual and other safety precautions common in the medical sterilization industry.

Comparison to other sterilants: The Mini-Max Cleaner® is not an ozone depleter. Flammability risks are negligible, as discussed above. The toxicity is less than that of ethylene oxide and its blends. Thus, we find the Mini-Max Cleaner® acceptable because it does not pose a greater risk to public health and the environment.

II. Section 612 Program

A. Statutory Requirements

Section 612 of the Clean Air Act authorizes EPA to develop a program for evaluating alternatives to ozone-depleting substances. We refer to this program as the Significant New Alternatives Policy (SNAP) program. The major provisions of section 612 are:

• Rulemaking—Section 612(c) requires EPA to promulgate rules making it unlawful to replace any class I (chlorofluorocarbon, halon, carbon tetrachloride, methyl chloroform, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. We must publish a corresponding list of acceptable alternatives for specific uses.

• Petition Process—Section 612(d) grants the right to any person to petition EPA to add a substance to or delete a substance from the lists published in accordance with section 612(c). The Agency has 90 days to grant or deny a petition. Where the Agency grants the petition, it must publish the revised lists within an additional six months.

• 90-day Notification—Section 612(e) directs EPA to require any person who produces a chemical substitute for a class I substance to notify the Agency not less than 90 days before new or existing chemicals are introduced into interstate commerce for significant new uses as substitutes for a class I substance. The producer must also provide the Agency with the producer's unpublished health and safety studies on such substitutes.

• Outreach—Section 612(b)(1) states that the Administrator shall seek to maximize the use of Federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published the final rulemaking (59 FR 13044) that described the process for administering the SNAP program and issued our first acceptability lists for substitutes in the major industrial use sectors. These sectors include:

• Refrigeration and air conditioning;

• Foam blowing;

• Solvents cleaning;

• Fire suppression and explosion protection;

• Sterilants;

• Aerosols;

• Adhesives, coatings and inks; and

• Tobacco expansion.

These sectors comprise the principal industrial sectors that historically consumed the largest volumes of ozone-depleting compounds.

As described in this original rule for the SNAP program, EPA does not believe that rulemaking procedures are required to list alternatives as acceptable with no limitations. Such listings do not impose any sanction, nor do they remove any prior license to use a substance. Therefore, by this notice we are adding substances to the list of acceptable alternatives without first requesting comment on new listings.

However, we do believe that notice-and-comment rulemaking is required to place any substance on the list of prohibited substitutes, to list a substance as acceptable only under certain conditions, to list substances as acceptable only for certain uses, or to remove a substance from the lists of prohibited or acceptable substitutes. We publish updates to these lists as separate notices of rulemaking in the Federal Register.

The Agency defines a “substitute” as any chemical, product substitute, or alternative manufacturing process, whether existing or new, intended for use as a replacement for a class I or class II substance. Anyone who plans to market or produces a substitute for an ODS in one of the eight major industrial use sectors must provide EPA with health and safety studies on the substitute at least 90 days before introducing it into interstate commerce for significant new use as an alternative. This requirement applies to substitute manufacturers, but may include importers, formulators, or end-users, when they are responsible for introducing a substitute into commerce.

You can find a complete chronology of SNAP decisions and the appropriate Federal Register citations from the SNAP section of EPA's Ozone Depletion World Wide Web site at http://www.epa.gov/ozone/snap/chron.html. This information is also available from the Air Docket (see Addresses section above for contact information).

List of Subjects in 40 CFR Part 82

Environmental protection, Administrative practice and procedure, Air pollution control, Reporting and recordkeeping requirements.

Dated: September 19, 2006.
Brian J. McLean,
Director, Office of Atmospheric Programs.

Appendix A: Summary of Acceptable Decisions
End-use | Substitute | Decision | Further information
Refrigeration and Air Conditioning
Centrifugal chillers (retrofit and new) | R-421A (Choice R421A) as a substitute for HCFC-22 | Acceptable.
| ISCEON MO29 (R-422D) as a substitute for HCFC-22 | Acceptable.
| R-424A (RS-44) as a substitute for HCFC-22 | Acceptable.
Screw chillers (retrofit and new) | R-421A (Choice R421A) as a substitute for HCFC-22 | Acceptable.
| ISCEON MO29 (R-422D) as a substitute for HCFC-22 | Acceptable.
| R-424A (RS-44) as a substitute for HCFC-22 | Acceptable.
Reciprocating chillers (retrofit and new) | R-421A (Choice R421A) as a substitute for HCFC-22 | Acceptable.
| ISCEON MO29 (R-422D) as a substitute for HCFC-22 | Acceptable.
| R-424A (RS-44) as a substitute for HCFC-22 | Acceptable.
Industrial process refrigeration (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
Industrial process air conditioning (retrofit and new) | R-421A (Choice R421A) as a substitute for HCFC-22 | Acceptable.
| ISCEON MO29 (R-422D) as a substitute for HCFC-22 | Acceptable.
| R-426A (RS-24) as a substitute for CFC-12 | Acceptable.
| R-424A (RS-44) as a substitute for HCFC-22 | Acceptable.
Retail food refrigeration (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
Cold storage warehouses (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
Refrigerated transport (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
| R-407D as a substitute for CFC-12 | Acceptable.
Commercial ice machines (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
Ice skating rinks (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
Household refrigerators and freezers (retrofit and new) | R-421A (Choice R421A) as a substitute for HCFC-22 | Acceptable.
| R-421B (Choice R421B) as a substitute for HCFC-22, R-502, and CFC-12 | Acceptable.
| ISCEON MO29 (R-422D) as a substitute for HCFC-22 | Acceptable.
| R-426A (RS-24) as a substitute for CFC-12 | Acceptable.
| R-424A (RS-44) as a substitute for HCFC-22 | Acceptable.
Vending machines (retrofit and new) | R-421A (Choice R421A) as a substitute for HCFC-22 | Acceptable.
| ISCEON MO29 (R-422D) as a substitute for HCFC-22 | Acceptable.
| R-426A (RS-24) as a substitute for CFC-12 | Acceptable.
Water coolers (retrofit and new) | R-421A (Choice R421A) as a substitute for HCFC-22 | Acceptable.
| ISCEON MO29 (R-422D) as a substitute for HCFC-22 | Acceptable.
| R-426A (RS-24) as a substitute for CFC-12 | Acceptable.
Residential dehumidifiers (retrofit and new) | R-421A (Choice R421A) as a substitute for HCFC-22 | Acceptable.
| ISCEON MO29 (R-422D) as a substitute for HCFC-22 | Acceptable.
| R-426A (RS-24) as a substitute for CFC-12 | Acceptable.
| R-424A (RS-44) as a substitute for HCFC-22 | Acceptable.
Non-mechanical heat transfer (retrofit and new) | ISCEON MO29 (R-422D) as a substitute for HCFC-22 | Acceptable.
Household and light commercial air conditioning and heat pumps (retrofit and new) | R-421A (Choice R421A) as a substitute for HCFC-22 | Acceptable.
| ISCEON MO29 (R-422D) as a substitute for HCFC-22 | Acceptable.
| R-424A (RS-44) as a substitute for HCFC-22 | Acceptable.
Motor vehicle air conditioning (buses and passenger trains only) | ISCEON MO29 (R-422D) as a substitute for HCFC-22 | Acceptable.
Motor vehicle air conditioning | R-426A (RS-24) as a substitute for CFC-12 | Acceptable subject to use conditions. | Users must use the unique fittings and label specified by the manufacturer. Use is subject to requirements under § 609 of the Clean Air Act.
Foam Blowing
Polystyrene, Extruded Boardstock & Billet | Ecomate ™ as a substitute for CFCs and HCFCs | Acceptable. | OSHA established a permissible exposure limit for the main component of Ecomate ™ of 100 ppm for a time-weighted average over an eight-hour work shift.
Phenolic Insulation Board & Bunstock | Ecomate ™ as a substitute for CFCs and HCFCs | Acceptable. | OSHA established a permissible exposure limit for the main component of Ecomate ™ of 100 ppm for a time-weighted average over an eight-hour work shift.
Flexible Polyurethane | Ecomate ™ as a substitute for CFCs and HCFCs | Acceptable. | OSHA established a permissible exposure limit for the main component of Ecomate ™ of 100 ppm for a time-weighted average over an eight-hour work shift.
Polyurethane, Extruded Sheet | Ecomate ™ as a substitute for CFCs and HCFCs | Acceptable. | OSHA established a permissible exposure limit for the main component of Ecomate ™ of 100 ppm for a time-weighted average over an eight-hour work shift.
Polyolefin | Ecomate ™ as a substitute for CFCs and HCFCs | Acceptable. | OSHA established a permissible exposure limit for the main component of Ecomate ™ of 100 ppm for a time-weighted average over an eight-hour work shift.
Cleaning Solvents
Metal cleaning | The Mini-Max Cleaner ® as a substitute for CFC-113, methyl chloroform, and HCFCs | Acceptable.
Electronics cleaning | The Mini-Max Cleaner ® as a substitute for CFC-113, methyl chloroform, and HCFCs | Acceptable.
Precision cleaning | The Mini-Max Cleaner ® as a substitute for CFC-113, methyl chloroform, and HCFCs | Acceptable.
Aerosols
Aerosol solvents | The Mini-Max Cleaner ® as a substitute for CFC-113, methyl chloroform, and HCFCs | Acceptable.
Sterilants
Sterilants | The Mini-Max Cleaner ® as a substitute for CFC-12, HCFC-22, HCFC-124, and blends thereof | Acceptable.

[FR Doc. E6-15833 Filed 9-27-06; 8:45 am]

BILLING CODE 6560-50-P